DEPARTMENT OF THE TREASURY

Submission for OMB Review; Comment Request

July 9, 2009

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before August 14, 2009 to be assured of consideration.

Internal Revenue Service (IRS)

OMB Number: 1510-0073.

Type of Review: Extension.

Form: 111.

Title: ETA Financial Agency Agreement.

Description: This application will collect a financial institution's identifying information, confirm a financial institution's commitment to offering the ETA, identify a point of contact for the ETA Program and determine date when institutions will offer ETAs.

Respondents: Businesses or other for-profits.

Estimated Total Burden Hours: 10 hours.

Clearance Officer: Wesley Powe (202) 874-7662, Financial Management Service, Room 135, 3700 East West Highway, Hyattsville, MD 20782.

OMB Reviewer: Shagufta Ahmed (202) 395-7873, Office of Management and Budget, Room 10235, New Executive Office Building, Washington, DC 20503.

Celina Elphage,
Treasury PRA Clearance Officer.

[FR Doc. E9-16789 Filed 7-14-09; 8:45 am]

BILLING CODE 4830-01-P